FEDERAL MARITIME COMMISSION

[Docket No. 04-09]

American Warehousing of New York, Inc. v. the Port Authority of New York and New Jersey; Notice of Filing of Complaint and Assignment

Notice is given that a complaint has been filed by American Warehousing of New York, Inc. (“Complainant”) against The Port Authority of New York and New Jersey (“Respondent”). Complainant contends that Respondent violated sections 10(d)(3) ¹, and 10(d)(4) of the Shipping Act of 1984, U.S.C. app. section 1709(d)(3) and 1709(d)(4), respectively. Specifically, the Complainant alleges that the Respondent has unreasonably refused to deal with Complainant and shown unreasonable prejudice against the Complainant by refusing to negotiate in good faith a long-term extension or renewal of their Marine Terminal Lease Agreement (“Agreement of Lease”). As a direct result of these allegations, Complainant claims that it has suffered and will continue to suffer substantial ongoing economic damages and injury. Complainant seeks an order directing Respondent to cease all actions to terminate Complainant's leasehold relationship with Respondent; recommence discussions with the Complainant in good faith for a long-term extension of the Agreement of Lease similar to those entered into by Respondent for its other terminals; establish and put in force such practices as the Commission determines to be reasonable; pay reparations in an amount yet to be determined but exceeding $15,000,000.00 per year, including interest and attorney fees or any other damages to be determined; and take any other such action or provide any other such relief as the Commission determines to be warranted.

¹ Complainant references section 10(d)(3) of the Shipping Act of 1984, 46 U.S.C. app. section 1709(d)(3), which applies sections 10(b)(10) and 10(b)(13) to marine terminal operators.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 11, 2005 and a final decision of the Commission shall be issued by December 9, 2005.

Karen Gregory,
Assistant Secretary.

[FR Doc. 04-18727 Filed 8-16-04; 8:45 am]

BILLING CODE 6730-01-P